FEDERAL COMMUNICATIONS COMMISSION

47 CFR Part 80

[WT Docket No. 04-344; FCC 08-208]

Maritime Communications

AGENCY: Final rule; announcement of effective date.

SUMMARY: The Federal Communications Commission (Commission) announces that a certain rule adopted in its Automatic Identification Systems (AIS) proceeding in WT Docket No. 04-344 published in the Federal Register of January 29, 2009, to the extent it contained an information collection requirement that required approval by the Office of Management and Budget (OMB) was approved, April 8, 2009.

DATES: The amendment adding § 80.231, published January 29, 2009 (74 FR 5117) is effective May 19, 2009.

FOR FURTHER INFORMATION CONTACT: Jeffrey Tobias, Federal Communications Commission, Wireless Telecommunications Bureau, 445 12th St., SW., Washington, DC 20554 at (202) 418-0620.

SUPPLEMENTARY INFORMATION:

1. On January 29, 2009 at 74 FR 5117, the Commission published in the Federal Register, the summary of a Second Report and Order (2nd R&O) in WT Docket No. 04-344; FCC 08-208. In that 2nd R&O, the Commission stated that, upon OMB approval, it would publish in the Federal Register a document announcing the effective date of 47 CFR 80.231.

2. On April 8, 2009, OMB approved the public information collection associated with this rule change under OMB Control No. 3060-1124.

Marlene H. Dortch,
Secretary, Federal Communications Commission.

[FR Doc. E9-11647 Filed 5-18-09; 8:45 am]

BILLING CODE 6712-01-P